DEPARTMENT OF TRANSPORTATION

Federal Aviation Administration

Approval of Noise Compatibility Program for Kona International Airport at Keahole, Keahole, North Kona, HI

AGENCY: Federal Aviation Administration, DOT.

ACTION: Notice.

SUMMARY: The Federal Aviation Administration (FM) announces its findings on the noise compatibility program submitted by the Hawaii State Department of Transportation, Airports Division (DOT-A) under the provisions of 49 U.S.C. 47501 et seq. (formerly the Aviation Safety and Noise Abatement Act, hereinafter referred to as “the Act”) and 14 Code of Federal Regulations (CFR) part 150 (hereinafter referred to as “Part 150”) On January 12, 2010, the FM determined that the noise exposure maps submitted by the DOT-A under Part 150 were in compliance with applicable requirements. On April 20, 2011 the FAA approved the Kona International Airport at Keahole noise compatibility program. All of the recommendations of the program were approved. No program elements relating to new or revised flight procedures for noise abatement were proposed.

DATES: Effective Date: The effective date of the FM's approval of the Noise Compatibility Program for Kona International Airport at Keahole is April 20, 2011.

FOR FURTHER INFORMATION CONTACT: Gordon Wong, Environmental Protection Specialist, FAA Western-Pacific Region, Honolulu Airports District Office, 300 Ala Moana Boulevard, Room 7-128, Honolulu, Hawaii, telephone number (808) 541-1232. Documents reflecting this FAA action may be reviewed at this same location.

SUPPLEMENTARY INFORMATION: This notice announces that the FAA has given its overall approval to the Noise Compatibility Program for Kona International Airport at Keahole, effective April 20, 2011. Under section 104(a) of the Aviation Safety and Noise Abatement Act of 1979, as amended (herein after referred to as the “Act”) [recodified as 49 U.S.C. 47504], an airport operator who has previously submitted a Noise Exposure Map may submit to the FM a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FM does not substitute its judgment for that of the airport proprietor with respect to which measures should be recommended for action. The FAA's approval or disapproval of FAR Part 150 program recommendations is measured according to the standards expressed in Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action A request for Federal action or approval to implement specific noise compatibility measures may be required, and an FAA decision on the request may require an environmental assessment of the proposed action. Approval does not constitute a commitment by the FAA to financially assist in the implementation a the program nor a determination that all measures covered by the program are eligible for grant-in-aid funding from the FAA under the Airport and Airway Improvement Act of 1982, as amended. Where federal funding is sought, requests for project grants must be submitted to the FAA Airports District Office in Honolulu, Hawaii.

The DOT-A submitted to the FAA on April 27, 2009, the Noise Exposure Maps for evaluation. The FAA determined that the Noise Exposure Maps for Kona International Airport at Keahole were in compliance with applicable requirements on January 12, 2010. Notice of this determination was published in the Federal Register on January 25, 2010 (Volume 75/No. 15/pages 3959-3960).

The Kona International Airport at Keahole study contains a proposed noise compatibility program comprised of actions designed for phased implementation by airport management and adjacent jurisdictions. It was requested that the FAA evaluate and approve this material as a Noise Compatibility Program as described in 49 U.S.C. 47504 (formerly Section 104(b) of the Act). The FM began its review of the program on October 27, 2010, and was required by a provision of the Act to approve or disapprove the program within 180 days (other than the use of new or modified flight procedures for noise control). Failure to approve or disapprove such program within the 180-day period shall be deemed to be an approval of such program.

The Noise Compatibility Program recommended one Noise Abatement Element, eight Land Use Management Elements and three Program Management Elements. The FM completed its review and determined that the procedural and substantive requirements of the Act and FAR Part 150 have been satisfied. The overall program was approved, by the Manager of the Airports Division, Western-Pacific Region, effective April 20, 2011.

Approval was granted for one Noise Abatement Element, eight Land Use Management Elements and three Program Management Elements. The approved measures included: a pilot education program; maintaining an established communication process between DOT-A, Hawaii County, and Hawaii State Land Use Commission for the review of proposed development near the airport; DOT-A to encourage Hawaii County to revise the Environmental Quality Section of Hawaii County General Plan to include additional policies related to airport land use compatibility; establish an Airport Influence Area for Kona International Airport to define the area that land use compatibility policies would apply; DOT-A to encourage Hawaii County to adopt an airport compatibility checklist for discretionary review of projects within its vicinity, maintain compatible zoning designations within the 2013 60 DNL noise contour; require the dedication of noise and avigation easements through the subdivision approval process; adopt fair disclosure regulations to notify property owners of the noise generated by aircraft operations; adopt an airport noise overlay zone; monitor implementation of the Part 150 Noise Compatibility Program; updated the Noise Exposure Maps and Noise Compatibility Programs as necessary; and acquire and implement a noise monitoring system.

The FAA determinations are set forth in detail in the Record of Approval signed by the Manager of the Airports Division, Western-Pacific Region, on April 20, 2011. The Record of Approval, as well as other evaluation materials and the documents comprising the submittal, are available for review at the FAA office listed above and at the administrative offices of the Kona International Airport at Keahole. The Record of Approval also will be available on-line at: http://www.faa.gov/airports/environmental/airport_noise/part_150/states/.

Issued in Hawthorne, California, on December 12, 2011.
Mark A. McClardy,
Manager, Airports Division, Western-Pacific Region, AWP-600.

[FR Doc. 2012-1805 Filed 1-27-12; 8:45 am]

BILLING CODE 4910-13-M